DEPARTMENT OF AGRICULTURE

Submission for OMB Review; Comment Request

February 4, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Form for Collecting Taxpayer Identifying Numbers.

OMB Control Number: 0584-0501.

Summary of Collection: Section 31001(y) of the Debt Collection Improvement Act of 1996 (Public Law 104-134) requires all Federal agencies to obtain taxpayer identifying number (TINs) from all individuals and entities they enter into a direct payment agreement with to furnish the TIN whenever a request for payment is submitted to Federal payment officials. A taxpayer identifying number can be either a Social Security Number or an Employer Identification Number.

Need and Use of the Information: The Food and Nutrition Service (FNS) will collect information using form FNS-711, “Supplemental Form for Collecting Taxpayer Identifying Numbers” from individuals and entities receiving payments directly from the agency under any of the various nutrition and nutrition education programs administered by the Agency. The information is collected at the time of program application, and is only collected once unless an entity renews its application or reapplies for program participation. If the information were not collected, FNS would be unable to include taxpayer identifying numbers with each certified request for payment.

Description of Respondents: Business or other for-profit; Individuals or households; Not-for-profit institutions.

Number of Respondents: 800.

Frequency of Responses: Report: On occasion; Other (at time of app.).

Total Burden Hours: 66.

Ruth Brown,
Departmental Information Collection Clearance Officer.

[FR Doc. 2013-02807 Filed 2-7-13; 8:45 am]

BILLING CODE 3410-30-P